DEPARTMENT OF AGRICULTURE

Forest Service

Information Collection; Grazing Permit Administration Forms

AGENCY: Forest Service, USDA.

ACTION: Notice; request for comment.

SUMMARY: In accordance with the Paperwork Reduction Act of 1995, the Forest Service is seeking comments from all interested individuals and organizations on Information Collection Number 0596-0003, Grazing Permit Administration Forms. The proposed information collection authorization covers five existing forms with slight revisions, one existing form without revision, and one new form. The authorization for the forms currently covered by Information Collection Number 0596-0003 expires on December 31, 2002.

DATES: Comments must be received in writing on or before October 21, 2002. Comments received after that date will be considered to the extent practicable.

ADDRESSES: Comments concerning this notice should be addressed to Eric Olson, Forest & Rangelands Staff, Mail Stop 1103, Forest Service, USDA, PO Box 96090, Washington, DC 20090-6090.

Comments also may be submitted via facsimile to (202) 205-1096 or by e-mail to ecolson@fs.fed.us.

The public may inspect comments received at the offices of the Forest & Rangelands Staff, Sidney Yates Building—3 South, 201 14th Street, SW., Washington, DC 20250, during normal business hours. Visitors are encouraged to call ahead to (202) 205-1457 to facilitate entry to the building.

FOR FURTHER INFORMATION CONTACT: Eric Olson, Forest & Rangelands Staff, (202) 205-1457, or send an e-mail to ecolson@fs.fed.us. Individuals who use telecommunication devices for the deaf (TDD) may call the Federal Information Relay Service (FIRS) at 1-800-877-8339 between 8 a.m. and 8 p.m., Eastern Standard Time, Monday through Friday.

SUPPLEMENTARY INFORMATION:

Description of Information Collection

The following describes the information collection to be extended:

Title: FS-2200-1, Refund, Credit, or Transfer Application.

OMB Number: 0596-0003.

Expiration Date of Approval: December 31, 2002.

Type of Request: Extension with no revision.

Abstract: Information collected on this form enables the Forest Service to evaluate a grazing permittee's request for a refund, credit, or transfer of the unused portion of the preceding season's grazing fees paid to the Forest Service for the use of National Forest System lands by permitted livestock. In addition to name and mailing address information, the applicant also indicates on this form the amount of permitted grazing use that was not exercised, the reason it was not exercised, the amount of the grazing fees paid for use that was not exercised, and whether this amount should be refunded, credited, or transferred to another account.

Estimate of Annual Burden: 20 minutes.

Type of Respondents: Grazing permittees.

Estimated Annual Number of Respondents: 600.

Estimated Annual Number of Responses per Respondent: 1.

Estimated Total Annual Burden on Respondents: 200 hours.

Description of Information Collection

Title: FS-2200-2, Application for Temporary Grazing or Livestock Use Permit.

OMB Number: 0596-0003.

Expiration Date of Approval: December 31, 2002.

Type of Request: Extension with revision.

Abstract: Information collected on this form enables the Forest Service to determine whether individuals qualify for a temporary grazing or livestock use permit authorizing grazing on certain National Forest System lands for a period not to exceed one year. The Forest Service uses the information on this form to determine whether the applicant is likely to comply with grazing permit terms and conditions; the type, amount, and location where grazing use is being sought; and the applicant's name and mailing address so that the agency knows where and to whom correspondence, including the bill for grazing fees, should be sent. This form has been revised to incorporate material previously contained in Form FS-2200-15, Application and Permit for Livestock Use, which is now obsolete. The revisions do not change the scope or extent of information collection requests that were in the previous form.

Estimate of Annual Burden: 20 minutes.

Type of Respondents: Grazing permittees or applicants seeking short term grazing privileges.

Estimated Annual Number of Respondents: 1,750.

Estimated Annual Number of Responses per Respondent: 1.

Estimated Total Annual Burden on Respondents: 583 hours.

Description of Information Collection

Title: FS-2200-12, Waiver of Term Grazing Permit.

OMB Number: 0596-0003.

Expiration Date of Approval: December 31, 2002.

Type of Request: Extension with revision.

Abstract: Information collected on this form enables the Forest Service to terminate an individual's grazing privileges on certain National Forest System lands based upon that individual's sale or transfer of base ranch property, permitted livestock, or both to another individual who desires to acquire a new grazing permit. The information on this form enables the Forest Service to cancel the grazing permit issued to the individual who sold or transferred the base ranch property, permitted livestock, or both; to identify the individual who acquired the base ranch property, permitted livestock, or both as the preferred applicant for a new grazing permit to replace the cancelled one. This form has been revised but the revisions do not change the scope and extent of the information collection requests that were in the previous form.

Estimate of Annual Burden: 20 minutes.

Type of Respondents: Grazing permittees seeking to relinquish their grazing privileges in favor of individuals who have acquired their base property, permitted livestock, or both.

Estimated Annual Number of Respondents: 750.

Estimated Annual Number of Responses per Respondent: 1.

Estimated Total Annual Burden on Respondents: 250 hours.

Description of Information Collection

Title: FS-2200-13, Escrow Waiver of Term Grazing Permit Privileges.

OMB Number: 0596-0003.

Expiration Date of Approval: December 31, 2002.

Type of Request: Extension with revision.

Abstract: The information on this form enables the Forest Service to identify the name and address of the lender to a permittee, the amount of the loan from the lender to the permittee, and the due date for repayment of the loan by the permittee. This information is used by the Forest Service to determine whether it should hold in escrow on behalf of the lender all of the privileges associated with the grazing permit except the privilege to graze. It allows the Forest Service to notify the lender of important issues associated with the administration of the grazing permit, and facilitates the transfer of a grazing permit to a lender if the permittee defaults on the loan. This form has been revised but the revisions do not change the scope and extent of the information collection requests that were in the previous form.

Estimate of Annual Burden: 20 minutes.

Type of Respondents: Individuals holding a grazing permit who mortgage their base property or permitted livestock.

Estimated Annual Number of Respondents: 150.

Estimated Annual Number of Responses per Respondent: 1.

Estimated Total Annual Burden on Respondents: 50 hours.

Description of Information Collection

Title: FS-2200-16, Application for Term Grazing Permit.

OMB Number: 0596-0003.

Expiration Date of Approval: December 31, 2002.

Type of Request: Extension with revision.

Abstract: The information collected on this form enables the Forest Service to evaluate an applicant's eligibility and qualification to hold a term grazing permit authorizing the use of National Forest System lands for livestock grazing purposes, to determine the applicant's ability to comply with grazing permit terms and conditions, and to notify the applicant in writing of matters associated with the administration of permitted grazing including, but not limited to, bills for the fees associated with the permitted grazing activity. This form has been revised but the revisions do not change the scope and extent of the information collection requests that were in the previous form.

Estimate of Annual Burden: 30 minutes.

Type of Respondents: Individuals applying for a term grazing permit.

Estimated Annual Number of Respondents: 1,800.

Estimated Annual Number of Responses per Respondent: 1.

Estimated Total Annual Burden on Respondents: 900 hours.

Description of Information Collection

Title: FS-2200-17, Application for Term Private Land Grazing Permit.

OMB Number: 0596-0003.

Expiration Date of Approval: December 31, 2002.

Type of Request: Extension with revision.

Abstract: The information collected on this form enables the Forest Service to evaluate the applicant's eligibility and qualification to hold a term private-land grazing permit, which authorizes the use of National Forest System lands and private lands owned by the applicant for livestock grazing purposes. The information also enables the Forest Service to determine the applicant's ability to comply with grazing permit terms and conditions, and to notify the applicant regarding grazing permit administration issues including, but not limited to, bills for the grazing fees associated with the permitted grazing activity. This form has been revised but the revisions do not change the scope and extent of the information collection requests that were in the previous form.

Estimate of Annual Burden: 20 minutes.

Type of Respondents: Individuals applying for a term private-land grazing permit.

Estimated Annual Number of Respondents: 150.

Estimated Annual Number of Responses per Respondent: 1.

Estimated Total Annual Burden on Respondents: 50 hours.

The following describes the new information collection.

Description of Information Collection

Title: FS-2200-_, Ownership Statement by Corporation or Partnership.

OMB Number: 0596-0003.

Type of Request: New.

Abstract: The information collected on this form enables the Forest Service to evaluate whether a corporation or partnership is eligible and qualified to hold a term grazing permit authorizing grazing on certain National Forest System lands, whether the corporation is authorized to conduct business in the state in which the National Forest System lands to be grazed are located, and which shareholders or partners are authorized to sign official documents on behalf of the corporation or partnership. This is a new Service-wide form based on two similar forms that have been used on a regional basis for many years. These two similar forms, R1-FS-2200-5 and R2-FS-2200-6, are covered under the current information collection authorization but will be discontinued when this new Service-wide form becomes effective.

Estimate of Annual Burden: 20 minutes.

Type of Respondents: Corporations or partnerships applying for a grazing permit.

Estimated Annual Number of Respondents: 800.

Estimated Annual Number of Responses per Respondent: 1.

Estimated Total Annual Burden on Respondents: 267 hours.

Comment Is Invited

Comment is invited on the following: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. In submitting this proposal to the Office of Management and Budget for approval, the Forest Service will summarize and respond to comments received.

Dated: August 9, 2002.
Jack L. Craven,
Acting Deputy Chief, National Forest System.

[FR Doc. 02-21130 Filed 8-19-02; 8:45 am]

BILLING CODE 3410-11-P